NUCLEAR REGULATORY COMMISSION

[Docket Nos. 50-275 and 50-323; NRC-2023-0192]

Pacific Gas and Electric Company; Diablo Canyon Nuclear Power Plant, Units 1 and 2; Final Supplemental Environmental Impact Statement

AGENCY: Nuclear Regulatory Commission.

ACTION: Notice; issuance.

SUMMARY: The U.S. Nuclear Regulatory Commission (NRC) has published Supplement 62 to the Generic Environmental Impact Statement for License Renewal of Nuclear Plants, NUREG-1437, regarding the renewal of Facility Operating License Nos. DPR-80 and DPR-82 for an additional 20 years of operation for Diablo Canyon Nuclear Power Plant, Units 1 and 2 (Diablo Canyon). Diablo Canyon is located in Avila Beach, California, approximately 12 miles west-southwest of San Luis Obispo, California. Possible alternatives to the proposed action of license renewal for Diablo Canyon were evaluated and included the no-action alternative and replacement power alternatives.

DATES: NUREG-1437, Supplement 62 is available as of June 20, 2025.

ADDRESSES: Please refer to Docket ID NRC-2023-0192 when contacting the NRC about the availability of information regarding this document. You may obtain publicly available information related to this document using any of the following methods:

• Federal Rulemaking Website: Go to https://www.regulations.gov and search for Docket ID NRC-2023-0192. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 62 is available in ADAMS under Accession No. ML25156A357.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of NUREG-1437, Supplement 62 will be available for public review at the San Luis Obispo Library, 995 Palm St., San Luis Obispo, CA 93401.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION:

I. Background

In accordance with section 51.118 of title 10 of the Code of Federal Regulations, “Final environmental impact statement—notice of availability,” the NRC is making available to the public NUREG-1437, Supplement 62. A Notice of Availability of the draft of NUREG-1437, Supplement 62 was published in the Federal Register on November 1, 2024 (89 FR 87433). The U.S. Environmental Protection Agency issued its Notice of Availability on November 1, 2024 (89 FR 87366). The public comment period on the draft of NUREG-1437, Supplement 62 ended on December 16, 2024, and the comments received are addressed in NUREG-1437, Supplement 62.

II. Discussion

The draft of NUREG-1437, Supplement 62 was issued for public comment on November 1, 2024. NUREG-1437, Supplement 62 addresses the comments received. As discussed in Chapter 4 of NUREG-1437, Supplement 62, the NRC staff has determined that the adverse environmental impacts of license renewal for Diablo Canyon (i.e., the continued operation of Diablo Canyon for a period of 20 years beyond the expiration dates of the current operating licenses) are not so great that preserving the option of license renewal for energy-planning decision-makers would be unreasonable. This recommendation is based on: (1) information in the environmental report, as supplemented, and other documents submitted by Pacific Gas and Electric Company; (2) consultation with Federal, State, Tribal, and local governmental agencies; (3) the NRC staff's independent environmental review; and (4) the NRC staff's consideration of public comments received during the scoping process and on the draft of NUREG-1437, Supplement 62.

Dated: June 24, 2025.
For the Nuclear Regulatory Commission.
Kimyata Morgan-Butler,
Acting Deputy Director, Division of Rulemaking, Environmental, and Financial Support,Office of Nuclear Material Safety and Safeguards.

[FR Doc. 2025-11893 Filed 6-26-25; 8:45 am]

BILLING CODE 7590-01-P